DEPARTMENT OF TRANSPORTATION

Federal Aviation Administration

14 CFR Part 39

[Docket No. FAA-2013-0828; Directorate Identifier 2012-NM-036-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for certain Airbus Model A330-200 and -300 series airplanes; and Model A340-200 and -300 series airplanes. The NPRM proposed to supersede AD 2009-15-17 to continue to require inspections for damage to the protective treatments or any corrosion of all main landing gear (MLG) bogie beams, application of protective treatments, and corrective action if necessary. The NPRM also proposed to require modification of the MLG bogie beams, which would terminate the repetitive inspections for any modified bogie beam. The NPRM also proposed to allow optional methods of compliance for certain actions. The NPRM was prompted by reports of thin paint coats and paint degradation on enhanced MLG bogie beams, as well as reports that some airplanes have been inspected too early and not re-inspected as needed. This action revises the NPRM by revising the compliance times and adding a one-time inspection for airplanes that have been inspected too early. We are proposing this supplemental NPRM (SNPRM) to detect and correct damage or corrosion of the MLG bogie beams, which could cause a runway excursion event, bogie beam detachment from the airplane, or MLG collapse, which could result in damage to the airplane and injury to the occupants. Since these actions impose an additional burden over that proposed in the NPRM, we are reopening the comment period to allow the public the chance to comment on these proposed changes.

DATES: We must receive comments on this SNPRM by April 21, 2014.

ADDRESSES: You may send comments using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Messier-Dowty service information identified in this proposed AD, contact Messier-Dowty: Messier Services Americas, Customer Support Center, 45360 Severn Way, Sterling, VA 20166-8910; telephone 703-450-8233; fax 703-404-1621; Internet http://techpubs.services/messier-dowty.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2013-0828; Directorate Identifier 2012-NM-036-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 by adding an AD that would apply to certain Airbus Model A330-200 and -300 series airplanes; and Model A340-200 and -300 series airplanes. The NPRM was published in the Federal Register on September 25, 2013 (78 FR 58978). The NPRM proposed to supersede AD 2009-15-17, Amendment 39-15980 (74 FR 37523, July 29, 2009), to require actions intended to address the unsafe condition for the specified products.

Actions Since Previous NPRM Was Issued

Since we issued the NPRM (78 FR 58978, September 25, 2013), we have received reports that some airplanes were initially inspected too early (before 4.5 years since the airplane's first flight with a bogie beam installed or since the bogie was installed after overhaul) and have not been re-inspected. The European Aviation Safety Agency (EASA), which is the Technical Agent for the Member States of the European Community, has issued EASA Airworthiness Directive 2013-0267, dated November 6, 2013 (referred to after this as the Mandatory Continuing Airworthiness Information, or “the MCAI”), to correct an unsafe condition for the specified products. The MCAI states:

The operator of an A330 aeroplane (which has a common bogie beam with the A340) reported a fracture of the Right Hand (RH) main landing gear (MLG) bogie beam, which occurred while turning during low speed taxi maneuvers. The bogie fractured aft of the pivot point and remained attached to the sliding tube by the brake torque reaction rods. After this RH bogie failure, the aeroplane continued for approximately 40 meters on the forks of the sliding member before coming to rest on the taxiway.

The investigations revealed that this event was due to corrosion pitting occurring on the bore of the bogie beam.

This condition, if not detected and corrected, could lead to a runway excursion event or to detachment of the bogie from the aeroplane, or to MLG collapse, possibly resulting in damage to the aeroplane and injury to the occupants.

To enable early detection and repair of corrosion of the internal surfaces, EASA issued AD 2007-0314 [http://ad.easa.europa.eu/ad/2007-0314R1] to require a one-time inspection of all MLG bogie beams, except Enhanced MLG bogie beams, and the reporting of the results to Airbus. EASA AD 2007-0314 was revised and later superseded by EASA AD 2008-0093 [http://ad.easa.europa.eu/ad/2008-0093], reducing the inspection threshold period.

The results of subsequent investigations showed thin paint coats and paint degradation, confirmed as well on Enhanced MLG bogie beams. To address this additional concern, EASA issued AD 2011-0141 [http://ad.easa.europa.eu/ad/2011-0141] [which was not mandated by the FAA], retaining the requirements of EASA AD 2008-0093, which was superseded, to require a one-time visual inspection of all MLG bogie beams, including a visual examination of the internal diameter for corrosion or damage to protective treatments of the bogie beam and measurement of the paint thickness on the internal bore, accomplishment of the applicable corrective actions and a modification of the MLG bogie beam to improve the coat paint application method, and application of corrosion protection.

Prompted by in-service requests, EASA issued EASA AD 2012-0015 [http://ad.easa.europa.eu/ad/2012-0015] [corresponds with FAA NPRM (78 FR 58978, September 25, 2013)] retaining the requirements of EASA AD 2011-0141, which was superseded, and introducing repetitive inspections of the MLG bogie beams [for damage to protective treatments or corrosion], which allows extension of the compliance time for the MLG bogie beam modification [for improved protection from corrosion] from 15 years to 21 years. Modification of a MLG bogie beam constitutes terminating action for the repetitive inspections for that MLG bogie beam.

Reports on inspection results provided to Airbus show that some aeroplanes were initially inspected too early (before 4.5 years since aeroplane first flight with bogie beam installed/installed after overhaul) and have not been re-inspected as required.

For the reasons described above, this [EASA] AD retains the requirements of EASA AD 2012-0015, which is superseded, and redefines the inspection periodicity. This [EASA] AD also introduces a specific one-time inspection for aeroplanes that have been inspected too early.

This proposed AD also provides optional methods of compliance for inspections for corrosion and damage to the protective treatment, repairs, and modification, of both MLG bogie beams. You may examine the MCAI in the AD docket on the Internet at http://regulations.gov by searching and locating it in Docket No. FAA-2013-0828.

Relevant Service Information

Airbus has issued the following service bulletins. The actions described in this service information are intended to correct the unsafe condition identified in the MCAI.

• Airbus Mandatory Service Bulletin A330-32-3225, Revision 02, dated October 26, 2012.

• Airbus Mandatory Service Bulletin A330-32-3237 (for Model A330 series airplanes), Revision 01, dated October 14, 2011.

• Airbus Mandatory Service Bulletin A340-32-4268, Revision 03, dated January 14, 2013.

• Airbus Mandatory Service Bulletin A340-32-4279 (for Model A340 series airplanes), Revision 01, dated October 14, 2011.

Messier Dowty has issued the following service bulletins. The actions described in this service information are intended to correct the unsafe condition identified in the MCAI.

• Messier Dowty Service Bulletin A33/34-32-271, Revision 1, dated November 16, 2007.

• Messier-Dowty Service Bulletin A33/34-32-278, including Appendices A and B, Revision 1, dated August 24, 2011.

• Messier-Dowty Service Bulletin A33/34-32-283, including Appendix A, Revision 1, dated July 10, 2012.

• Messier-Dowty Service Bulletin A33/34-32-284, including Appendix A, Revision 1, dated July 10, 2012.

Comments

We gave the public the opportunity to comment on the NPRM (78 FR 58978, September 25, 2013). The following presents the comments received on the NPRM and the FAA's response to each comment.

Request To Replace Modification 58896 With Modification 54500

Delta Air Lines Inc. and US Airways requested that paragraph (h) of the NPRM (78 FR 58978, September 25, 2013) be changed to replace Modification 58896 with Modification 54500. The commenters stated that paragraph (h) of the NPRM specifies doing repetitive inspections on airplanes having all serial numbers, except airplanes on which Modification 58896 has been embodied in production; however, paragraph (g) of the NPRM and AD 2009-15-17, Amendment 39-15980 (74 FR 37523, July 29, 2009) are not applicable to airplanes with Modification 54500 embodied in production.

We agree with the commenters for the reasons provided. We have revised the affected airplanes specified in paragraph (g) of this SNPRM (paragraph (h) of the NPRM (78 FR 58978, September 25, 2013)). Paragraph (g) of this SNPRM affects airplanes and MLGs having one of the configurations specified below:

• Airbus Modification 54500 not embodied in production.

• Airbus Service Bulletin A330-32-3212; or A340-32-4256 not embodied in service.

• Airbus Service Bulletin A330-32-3222; or A340-32-4265 embodied in service.

Request To Require Reporting Requirements Only For Positive Findings

Delta Air Lines Inc. (Delta) requested that reporting be mandated only for positive findings, specifically for the findings beyond the applicable component maintenance manual repair limits.

We disagree with the request to report only positive findings. All findings (positive and negative) must be reported to provide the manufacturer with information regarding the extent of the problem in the affected fleet, and to help determine whether a design change of the affected airplane part is needed. No change has been made to this SNPRM in this regard.

Request To Extend the Compliance Time for Reporting Requirements

Delta requested that we extend the compliance time for reporting from 90 days to 180 days to allow findings to be batched together for a grouped report, and to preclude undue compliance issues related to late reporting.

We do not agree with the request to extend the compliance time for reporting. Prompt reporting will ensure the timely update of the operator's maintenance documentation. However, under the provisions of paragraph (q) of this SNPRM, we will consider requests for approval of an extension of the compliance time if sufficient data are submitted to substantiate that the new compliance time would provide an acceptable level of safety. No change has been made to this SNPRM in this regard.

Request To Allow Use of Reporting Sheet in Messier-Dowty Service Bulletin A33/34-32-278, dated February 17, 2010

Delta stated that the NPRM (78 FR 58978, September 25, 2013) specifies using the reporting sheet in Airbus Service Bulletin A330-32-3237, dated January 18, 2011; however, this service bulletin does not have a reporting sheet included. Delta requested that we allow the use of the reporting sheet included in Messier-Dowty Service Bulletin A33/34-32-278, dated February 17, 2010 instead.

We disagree with the request. Airbus Service Bulletin A330-32-3237, Revision 01, dated October 14, 2011, includes a reporting sheet that is required by this AD. No change has been made to this SNPRM in this regard.

Other Changes to This SNPRM

We have revised the affected airplanes for paragraph (k) of this SNPRM (paragraph (i) in the NPRM (78 FR 58978, September 25, 2013)). All airplanes are affected by the actions specified by paragraph (k) of this SNPRM.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM (78 FR 58978, September 25, 2013). As a result, we have determined that it is necessary to reopen the comment period to provide additional opportunity for the public to comment on this SNPRM.

Differences Between This SNPRM and the MCAI or Service Information

This SNPRM differs from the MCAI and/or service information as follows: The MCAI specifies repair and corrective actions in accordance with Airbus Mandatory Service Bulletin A330-32-3225, Revision 02, dated October 26, 2012; or A340-32-4268, Revision 03, dated January 14, 2013. However, Airbus Mandatory Service Bulletins A330-32-3225, Revision 02, dated October 26, 2012; and A340-32-4268, Revision 03, dated January 14, 2013; do not describe those actions. Paragraph (j)(2) of this SNPRM specifies repair and corrective actions in accordance with Messier-Dowty Service Bulletin A33/34-32-272, Revision 1, including Appendices A, B, C, and D, dated September 22, 2008. In addition, we refer to Messier-Dowty Service Bulletin A33/34-32-272, Revision 1, including Appendices A, B, C, and D, dated September 22, 2008, in paragraph (j)(1) of this AD for applying the protective treatments. This has been coordinated with Airbus.

Costs of Compliance

We estimate that this SNPRM affects 51 airplanes of U.S. registry.

We also estimate that it would take up to 34 work-hours per product to comply with the basic requirements of this SNPRM. The average labor rate is $85 per work-hour. Required parts would cost about $2,890 per product. Based on these figures, we estimate the cost of this SNPRM on U.S. operators to be $147,390, or $2,890 per product.

In addition, we estimate that the optional modification would take about 10 work-hours and require parts costing $0, for a cost of $850 per product. We have no way of determining the number of aircraft that might need the corrective action.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2009-15-17, Amendment 39-15980 (74 FR 37523, July 29, 2009), and adding the following new AD:

Airbus: Docket No. FAA-2013-0828; Directorate Identifier 2012-NM-036-AD.

(a) Comments Due Date

We must receive comments by April 21, 2014.

(b) Affected ADs

None.

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers, except those airplanes on which Airbus Modification 58896 has been embodied in production.

(d) Subject

Air Transport Association (ATA) of America Code 32, Landing gear.

(e) Reason

This AD was prompted by reports of thin paint coats and paint degradation on enhanced main landing gear (MLG) bogie beams. We are issuing this AD to detect and correct damage or corrosion of the MLG bogie beams, which could cause a runway excursion event, bogie beam detachment from the airplane, or MLG collapse, which could result in damage to the airplane and injury to the occupants.

(f) Compliance

Comply with this AD within the compliance times specified, unless already done.

(g) Repetitive Inspections for Certain Airplane Configurations

For airplanes and MLGs having one of the configurations specified in paragraphs (g)(1), (g)(2), or (g)(3) of this AD: After 54 months at the earliest, but no later than 72 months, since the left-hand (LH) or right-hand (RH) MLG bogie beam's first flight on an airplane, or since its first flight on an airplane after overhaul, as applicable: Clean the internal bore and do a detailed inspection for corrosion and damage to the protective treatments, and measure the paint thickness on the internal bore of the internal surfaces of the LH and RH MLG bogie beams, in accordance with the Accomplishment Instructions of Airbus Service Bulletin A330-32-3225, Revision 02, dated October 26, 2012; or Airbus Service Bulletin A340-32-4268, Revision 03, dated January 14, 2013; as applicable. Repeat the inspections thereafter at intervals of no less than 54 months, but no more than 72 months after the most recent inspection. During overhaul of a MLG bogie beam, any corrosion will be removed, which means that the first inspection after overhaul of that bogie beam, as required by this paragraph, is between 54 months and 72 months after that overhaul.

(1) Airbus Modification 54500 not embodied in production.

(2) Airbus Service Bulletin A330-32-3212; or A340-32-4256 not embodied in service.

(3) Airbus Service Bulletin A330-32-3222; or A340-32-4265 embodied in service.

(h) Optional Methods of Compliance for Certain Airplane Configurations

Inspections and corrective actions on both MLG bogie beams done in accordance with the instructions of Messier-Dowty Service Bulletin A33/34-32-271, Revision 1, dated November 16, 2007; or A33/34-32-272, Revision 1, dated September 22, 2008, as applicable, are acceptable methods of compliance for the requirements of paragraph (g) of this AD, provided each inspection is accomplished between 54 months and 72 months since the first flight of the affected MLG bogie beam on an airplane, or since its first flight after its last overhaul, as applicable.

(i) One-Time Specific Inspection for Certain Airplane Configurations

For airplanes on which the modification specified in paragraph (k) or (m)(2) of this AD, or the inspection specified in paragraph (m)(1) of this AD, has not been done as of the effective date of this AD, and on which a LH or RH MLG bogie beam has been inspected earlier than 4.5 years since first flight of the affected MLG bogie beam, or since the bogie beam's first flight after the bogie beam's last overhaul, in accordance with the Accomplishment Instructions of Airbus Service Bulletin A330-32-3225 or A340-32-4268: At the applicable time specified in paragraph (i)(1), (i)(2), or (i)(3) of this AD, clean the internal bore and do a detailed inspection of internal surfaces of the LH and RH MLG bogie beams to detect corrosion, damage to the protective treatments, and to measure the paint thickness on the internal bore, in accordance with the Accomplishment Instructions of Airbus Service Bulletin A330-32-3225, Revision 02, dated October 26, 2012; or Airbus Service Bulletin A340-32-4268, Revision 03, dated January 14, 2013; as applicable.

(1) For MLG bogie beams having the configurations specified in both paragraphs (i)(1)(i) and (i)(1)(ii) of this AD: Do the one-time specific inspection specified in paragraph (i) of this AD within 9 months after the effective date of this AD.

(i) MLG bogie beams having between 4.5 years and 10 years since first flight on an airplane, or since first flight on an airplane since overhaul.

(ii) MLG bogie beam on which the first inspection was done after 4 years and 3 months and before 4 years and 6 months since first flight of the MLG bogie beam, or since the bogie beam's first flight after last overhaul, as applicable.

(2) For MLG bogie beams having the configurations specified in both paragraphs (i)(2)(i) and (i)(2)(ii) of this AD: Do the one-time specific inspection specified in paragraph (i) of this AD within 3 months after the effective date of this AD.

(i) MLG bogie beams having between 4.5 and 10 years since first flight on an airplane, or since first flight on an airplane since overhaul.

(ii) MLG bogie beams on which the first inspection was done after 3 years and 9 months and before 4 years and 3 months inclusive since first flight of the MLG bogie beam, or since the bogie beam's first flight after the bogie beam's last overhaul, as applicable.

(3) For bogie beams having the configurations specified in both paragraphs (i)(3)(i) and (i)(3)(ii) of this AD: Do the one-time specific inspection specified in paragraph (i) of this AD within 3 months after the effective date of this AD.

(i) Bogie beams having between 4.5 and 8 years since first flight on an airplane or since first flight on an airplane since overhaul.

(ii) Bogie beams on which the first inspection was done before 4 years and 3 months since first flight of the MLG bogie beam, or since the bogie beam's first flight after the bogie beam's last overhaul.

(4) For bogie beams having the configurations specified in both paragraphs (i)(4)(i) and (i)(4)(ii) of this AD: Do the one-time specific inspection specified in paragraph (i) of this AD within 1 month after the effective date of this AD.

(i) Bogie beams having between 8 and 10 years since first flight on an airplane, or since first flight on an airplane since overhaul.

(ii) Bogie beams on which the first inspection was done before 3 years and 9 months since first flight of the MLG bogie beam, or since the bogie beam's first flight after the bogie beam's last overhaul, and the bogie beam has accumulated more than 8 years as of the effective date of this AD.

(5) After accomplishment of the one-time specific inspection specified in paragraph (i) of this AD, repeat the actions specified in paragraph (g) of this AD at the times specified in paragraph (g) of this AD.

(j) Corrective Actions

(1) If, during any inspection required by paragraph (g) or (i) of this AD, no damage or corrosion is found, before further flight, apply the protective treatments to the bogie beam, in accordance with the Accomplishment Instructions of Messier-Dowty Service Bulletin A33/34-32-272, Revision 1, including Appendices A, B, C, and D, dated September 22, 2008.

(2) If, during any inspection required by paragraph (g) or (i) of this AD, damage or corrosion is found, before further flight, repair and apply the protective treatments to the bogie beam, in accordance with the Accomplishment Instructions of Messier-Dowty Service Bulletin A33/34-32-272, Revision 1, including Appendices A, B, C, and D, dated September 22, 2008.

(k) Inspection and Corrective Actions for All Airplanes

For all airplanes: Before the accumulation of 252 months on a MLG bogie beam, or within 90 days after the effective date of this AD, whichever occurs later, do the actions specified in paragraphs (k)(1) and (k)(2) of this AD concurrently and in sequence.

(1) Do a detailed inspection for damage and corrosion of the internal bores of the LH and RH MLG bogie beam, in accordance with the Accomplishment Instructions of Airbus Mandatory Service Bulletin A330-32-3237; or A340-32-4279; both Revision 01, both dated October 14, 2011, as applicable. If any damage or corrosion is found, before further flight, repair, in accordance with the Accomplishment Instructions of Airbus Mandatory Service Bulletin A330-32-3237; or A340-32-4279; both Revision 01, both dated October 14, 2011, as applicable.

(2) Modify and re-identify, as applicable, the LH and RH MLG bogie beams, in accordance with the Accomplishment Instructions of Airbus Mandatory Service Bulletin A330-32-3237; or A340-32-4279; both Revision 01, both dated October 14, 2011, as applicable.

(3) The inspection requirements of paragraph (k)(1) of this AD, and the modification requirements only of paragraph (k)(2) of this AD do not apply to any MLG bogie beam with a serial number is listed in Appendix A of Messier-Dowty Service Bulletin A33/34-32-283; or A33/34-32-284; both Revision 1, both dated July 10, 2012, as applicable.

(l) Optional Terminating Action

Modification of both MLG bogie beams done in accordance with paragraph (k) of this AD, or as specified in paragraphs (n)(1) and (n)(2) of this AD, terminates the repetitive inspections required by paragraph (g) of this AD for that modified MLG bogie beam.

(m) Optional Methods of Compliance

(1) Inspections for corrosion and damage to the protective treatment of both bogie beams, and repairs, done in accordance with Messier-Dowty Service Bulletin A33/34-32-278, including appendices A and B, Revision 1, dated August 24, 2011, are acceptable methods of compliance with the requirements of paragraph (k)(1) of this AD.

(2) Modification of both MLG bogie beams, done in accordance with Messier-Dowty Service Bulletins A33/34-32-283; and A33/34-32-284; both including Appendix A, both Revision 1, both dated July 10, 2012, as applicable, is an acceptable method of compliance with the requirements of paragraph (k)(2) of this AD.

(n) Parts Installation Limitations

(1) After modification of an airplane as required by paragraph (k) of this AD, or as specified in paragraphs (m)(1) and (m)(2) of this AD, do not install a MLG bogie beam unless it is in compliance with the requirements of paragraph (n)(1)(i), (n)(1)(ii), or (n)(1)(iii) of this AD.

(i) That MLG bogie beam has been modified and re-identified in accordance with the Accomplishment Instructions of Airbus Mandatory Service Bulletin A330-32-3237; or A340-32-4279; both Revision 01, both dated October 14, 2011, as applicable.

(ii) That MLG bogie beam has been inspected and corrected in accordance with the Accomplishment Instructions of Messier-Dowty Service Bulletin A33/34-32-278 Revision 1, dated August 24, 2011; and modified in accordance with the Accomplishment Instructions of Messier-Dowty Service Bulletin A33/34-32-283; or A33/34-32-284; both Revision 1, both dated July 10, 2012.

(iii) That MLG bogie beam has a serial number listed in Appendix A of Messier Dowty Service Bulletin A33/34-32-283 or A33/34-32-284, both Revision 1, both dated July 10, 2012.

(2) As of the effective date of this AD, except as specified in paragraph (n)(1) of this AD, installation of a MLG bogie beam on an airplane is allowed, provided that following the installation it is inspected and corrected in accordance with the requirements of this AD.

(o) Reporting Requirement

(1) Submit a report of the findings (both positive and negative) of each inspection required by paragraph (g) or (k) of this AD, as applicable, to Airbus, Customer Service Directorate, 1 Rond Point Maurice Bellonte, 31707 Blagnac Cedex, France, using the applicable reporting sheet in Airbus Service Bulletin A330-32-3237; or A340-32-4279; both dated January 18, 2011, at the applicable time specified in paragraph (o)(1)(i) or (o)(1)(ii) of this AD.

(i) If the inspection was done on or after the effective date of this AD: Submit the report within 90 days after the inspection.

(ii) If the inspection was done before the effective date of this AD: Submit the report within 90 days after the effective date of this AD.

(2) Submit a report of the findings (both positive and negative) of the inspection required by paragraph (i) of this AD to Airbus, Customer Service Directorate, 1 Rond Point Maurice Bellonte, 31707 Blagnac Cedex, France, using the applicable reporting sheet in Airbus Service Bulletin A330-32-3237; or A340-32-4279; both dated January 18, 2011, at the applicable time specified in paragraph (o)(2)(i) or (o)(2)(ii) of this AD.

(i) If the inspection was done on or after the effective date of this AD: Submit the report within 30 days after the inspection.

(ii) If the inspection was done before the effective date of this AD: Submit the report within 30 days after the effective date of this AD.

(p) Credit for Previous Actions

(1) This paragraph provides credit for the corresponding inspections and corrective actions done on a LH or RH MLG bogie beam required by paragraph (g) of this AD, if those actions were performed before the effective date of this AD using Airbus Mandatory Service Bulletin A330-32-3225, dated November 21, 2007; or Revision 01, dated October 30, 2008; provided these inspections and corrective actions were accomplished between 54 months and 72 months since first flight of the affected MLG bogie beam on an airplane, or since its first flight after its last overhaul, as applicable. Airbus Mandatory Service Bulletin A330-32-3225, dated November 21, 2007 is not incorporated by reference in this AD. Airbus Mandatory Service Bulletin A330-32-3225, Revision 01, dated October 30, 2008 was incorporated by reference in AD 2009-15-07, Amendment 39-15980 (74 FR 37523, July 29, 2009).

(2) This paragraph provides credit for the corresponding inspections and corrective actions done on a LH or RH MLG bogie beam required by paragraph (g) of this AD, if those actions were performed before the effective date of this AD using Airbus Mandatory Service Bulletin A340-32-4268, dated November 21, 2007; Revision 01, dated October 30, 2008; or Revision 02, dated October 26, 2012, provided these inspections and corrective actions were accomplished between 54 months and 72 months since first flight of the affected MLG bogie beam on an airplane, or since its first flight after its last overhaul, as applicable. Airbus Mandatory Service Bulletin A340-32-4268, dated November 21, 2007; and Revision 02, dated October 26, 2012; are not incorporated by reference in this AD. Airbus Mandatory Service Bulletin A340-32-4268, Revision 01, dated October 30, 2008, was incorporated by reference in AD 2009-15-17, Amendment 39-15980 (74 FR 37523, July 29, 2009).

(3) This paragraph provides credit for the corresponding actions required by paragraph (h) of this AD, if those actions were performed before the effective date of this AD using Messier Dowty Service Bulletin A33/34-32-271, dated September 13, 2007, which is not incorporated by reference in this AD.

(4) This paragraph provides credit for the corresponding actions required by paragraphs (h) and (j) of this AD, if those actions were performed before the effective date of this AD using Messier-Dowty Service Bulletin A33/34-32-272, including Appendices A, B, C, and D, dated November 16, 2007, which is not incorporated by reference in this AD.

(5) This paragraph provides credit for the corresponding actions required by paragraphs (k), (n)(1)(i), and (o) of this AD, if those actions were performed before the effective date of this AD using Airbus Mandatory Service Bulletin A330-32-3237, dated January 18, 2011, which is not incorporated by reference in this AD.

(6) This paragraph provides credit for the corresponding actions required by paragraphs (k), (n)(1)(i), and (o) of this AD, if those actions were performed before the effective date of this AD using Airbus Mandatory Service Bulletin A340-32-4279, dated January 18, 2011, which is not incorporated by reference in this AD.

(7) This paragraph provides credit for the corresponding actions required by paragraphs (k)(3), (m)(2), (n)(1)(ii), and (n)(1)(iii) of this AD, if those actions were performed before the effective date of this AD using Messier-Dowty Service Bulletin A33/34-32-283, including Appendix A, dated May 11, 2010, which is not incorporated by reference in this AD.

(8) This paragraph provides credit for the corresponding actions required by paragraphs (k)(3), (m)(2), (n)(1)(ii), and (n)(1)(iii) of this AD, if those actions were performed before the effective date of this AD using Messier-Dowty Service Bulletin A33/34-32-284, including Appendix A, dated May 11, 2010, which is not incorporated by reference in this AD.

(9) This paragraph provides credit for the corresponding actions required by paragraphs (m)(1) and (n)(1)(ii) of this AD, if those actions were performed before the effective date of this AD using Messier-Dowty Service Bulletin A33/34-32-278, including Appendices A and B, dated February 17, 2010, which is not incorporated by reference in this AD.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval). For a repair method to be approved, the repair approval must specifically refer to this AD. You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(r) Related Information

(1) Refer to Mandatory Continuing Airworthiness Information (MCAI) EASA Airworthiness Directive 2013-0267, dated November 6, 2013, for related information. You may examine the MCAI in the AD docket on the Internet at http://www.regulations.gov/#!documentDetail;D=FAA-2013&-0828-0001.

(2) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Messier-Dowty service information identified in this AD, contact Messier-Dowty: Messier Services Americas, Customer Support Center, 45360 Severn Way, Sterling, VA 20166-8910; telephone 703-450-8233; fax 703-404-1621; Internet https://techpubs.services/messier-dowty.com. You may view this service information at the FAA, Transport Airplane Directorate, 1601 Lind Avenue SW., Renton, WA. For information on the availability of this material at the FAA, call 425-227-1221.

Issued in Renton, Washington, on February 19, 2014.
Jeffrey E. Duven,
Manager, Transport Airplane Directorate, Aircraft Certification Service.

[FR Doc. 2014-04892 Filed 3-4-14; 8:45 am]

BILLING CODE 4910-13-P